DEPARTMENT OF COMMERCE

International Trade Administration

[A-580-816]

Corrosion-Resistant Carbon Steel Flat Products From Korea: Partial Rescission of Antidumping Duty Administrative Review

AGENCY: Import Administration, International Trade Administration, U.S. Department of Commerce.

ACTION: Notice of Partial Rescission of the Antidumping Duty Administrative Review.

SUMMARY: On September 30, 2003, in response to a request made by International Steel Group, Inc., an importer of the subject merchandise, the Department of Commerce (“Department”) published a notice of initiation of an antidumping duty administrative review of Corrosion-Resistant Carbon Steel Flat Products from Korea (“Korean CORE”), for the period of review (“POR”) August 1, 2002 through July 31, 2003. Because neither SeAH Steel Corporation (“SeAH”), an exporter of the subject merchandise, nor any of its affiliates had exports or sales of the subject merchandise to the United States during the POR, the Department is rescinding this review in part in accordance with 19 CFR 351.213(d)(3).

EFFECTIVE DATE: May 5, 2004.

FOR FURTHER INFORMATION CONTACT: John D. A. LaRose, Enforcement Group III, Office 9, Import Administration, International Trade Administration, U.S. Department of Commerce, 1401 Constitution Avenue, NW., Washington, DC 20230; telephone: 202-482-3794.

SUPPLEMENTARY INFORMATION:

Background

On August 29, 2003, International Steel Group requested that the Department conduct an administrative review of the antidumping duty order on Korean CORE for the period August 1, 2002 through July 31, 2003. On July 1, 2003, the Department published a notice of initiation of the antidumping administrative review of Korean CORE, in accordance with 19 CFR 351.221(c)(1)(i). See Initiation of Antidumping and Countervailing Duty Administrative Reviews, Requests for Revocations in Part, 68 FR 56262 (September 30, 2003). This review covers several exporters of the subject merchandise, including SeAH. On October 9, 2003, SeAH submitted a timely letter stating that the company and its affiliates did not have exports or sales of the subject merchandise to the United States during the POR. The letter also requested that the Department terminate the administrative review with respect to SeAH.

On October 23, 2003, the Department sent an electronic message to U.S. Customs and Border Protection (“CBP”) requesting that CBP officials report any known entries of subject merchandise from SeAH during the POR. In its message to CBP, the Department stated that no reply was required if CBP officials were not aware of any entries. By the deadline stated in our request, the Department received no reply. The Department also examined the online CBP listing of entries suspended under the order and found no SeAH entries during the POR. On March 15, 2004, the Department provided interested parties with a draft rescission, soliciting comments by March 22, 2004. See Memorandum to Edward Yang from Lisa Shishido Regarding Intent to Partially Rescind the Antidumping Duty Administrative Review of Korean Core, March 15, 2004. No interested parties submitted comments with regard to this rescission in part.

Rescission of Review

SeAH stated in its October 9, 2003 letter that it had no exports or sales in the United States of subject merchandise during the POR, and the Department has confirmed from available CBP data that SeAH had no entries of subject merchandise during the POR. In addition, no interested party commented on that finding.

Pursuant to the Department's regulations, the Department will rescind an administrative review “with respect to a particular exporter or producer, if the Secretary concludes that, during the period covered by the review, there were no entries, exports, or sales of the subject merchandise, as the case may be.” See 19 CFR 351.213(d)(3). SeAH's timely letter and the Department's efforts to identify entries, exports or sales of subject merchandise through U.S. Customs and Border Protection (“CBP”) for the POR show no such entries, exports or sales for SeAH or any of its affiliates. Accordingly, we are rescinding the administrative review for the period August 1, 2002 through July 31, 2003, and will issue appropriate assessment instructions to CBP.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation. This determination is issued in accordance with 19 CFR 351.213(d)(4) and section 777(i)(1) of the Tariff Act of 1930, as amended.

Dated: April 27, 2004.
James J. Jochum,
Assistant Secretary for Import Administration.

[FR Doc. 04-10231 Filed 5-4-04; 8:45 am]

BILLING CODE 3510-DS-P